DEPARTMENT OF THE INTERIOR

Fish and Wildlife Service

[FWS-R2-R-2012-N269; FXRS12610200000S3-134-FF02R06000]

Final Comprehensive Conservation Plans and Findings of No Significant Impacts for Environmental Assessments for Four Southwestern Refuges (Ozark Plateau and Wichita Mountains, OK; Buffalo Lake and Texas Mid-Coast, TX)

AGENCY: Fish and Wildlife Service, Interior.

ACTION: Notice of availability.

SUMMARY: We, the U.S. Fish and Wildlife Service (Service), announce the availability of four final comprehensive conservation plans (CCPs) and findings of no significant impacts (FONSIs) for the environmental assessments (EAs) for Buffalo Lake National Wildlife Refuge (NWR), Ozark Plateau NWR, Texas Mid-coast National Wildlife Refuge Complex (NWRC), and Wichita Mountains Wildlife Refuge (WR). Additionally, the Texas Mid-coast NWRC final CCP includes a final Land Protection Plan. In these final CCPs, we describe how we intend to manage these refuges for the next 15 years.

ADDRESSES: You will find the final CCPs and the EAs/FONSIs on the planning Web site, at http://www.fws.gov/southwest/refuges/plan/plansinprogress.html. Limited numbers of hard copies and CD-ROMs are available. You may request one by any of the following methods:

• Email: jose_viramontes@fws.gov. Include “Final CCPs” in the subject line of the message.

• U.S. Mail: USFWS-NWRS-Division of Strategic Planning and Policy, P.O. Box 1306, Albuquerque, NM 87102.

FOR FURTHER INFORMATION CONTACT: Jose Viramontes, Southwest Regional Chief, Division of Strategic Planning & Policy, National Wildlife Refuge System, 505-248-6473 or jose_viramontes@fws.gov.

SUPPLEMENTARY INFORMATION:

Introduction

Buffalo Lake NWR

With this notice, we finalize the CCP process for Buffalo Lake NWR, which we began by publishing a notice of intent in the Federal Register (63 FR 33693) on June 19, 1998. For more about the initial process and the history of this refuge, see that notice. We released the draft CCP and EA to the public, announcing and requesting comments in a notice of availability (77 FR 65011) on October 24, 2012. The comment period ended on November 23, 2012. A summary of public comments and the agency responses is included in the final CCP.

Ozark Plateau NWR

With this notice, we finalize the CCP process for Ozark Plateau NWR, which we began by publishing a notice of intent in the Federal Register (63 FR 33693) on June 19, 1998. For more about the initial process and the history of this refuge, see that notice. We released the draft CCP and EA to the public, announcing and requesting comments in a notice of availability (78 FR 9410) on February 8, 2013. The comment period ended on March 8, 2013. A summary of public comments and the agency responses is included in the final CCP.

Texas Mid-Coast NWRC

With this notice, we finalize the CCP process for Texas Mid-coast NWRC, which we began by publishing a notice of intent in the Federal Register (74 FR 29714) on June 23, 2009. For more about the initial process and the history of this refuge, see that notice. We released the draft CCP and EA to the public, announcing and requesting comments in a notice of availability (77 FR 50523) on August 21, 2012. The comment period ended on September 20, 2012. A summary of public comments and the agency responses is included in the final CCP.

Wichita Mountains WR

With this notice, we finalize the CCP process for Wichita Mountains WR, which we began by publishing a notice of intent in the Federal Register (73 FR 65872) on November 5, 2008. For more about the initial process and the history of this refuge, see that notice. We released the draft CCP and EA to the public, announcing and requesting comments in a notice of availability (77 FR 47657) on August 9, 2012. The comment period ended on September 10, 2012. A summary of public comments and the agency responses is included in the final CCP.

Background

The National Wildlife Refuge System Administration Act of 1966, as amended by the National Wildlife Refuge System Improvement Act of 1997 (16 U.S.C. 668dd-668ee) (Administration Act), requires us to develop a CCP for each national wildlife refuge. The purpose in developing a CCP is to provide refuge managers with a 15-year strategy for achieving refuge purposes and contributing toward the mission of the National Wildlife Refuge System (NWRS), consistent with sound principles of fish and wildlife management, conservation, legal mandates, and Service policies. In addition to outlining broad management direction on conserving wildlife and their habitats, CCPs identify wildlife-dependent recreational opportunities available to the public, including opportunities for hunting, fishing, wildlife observation and photography, and environmental education and interpretation.

Each unit of the NWRS was established for specific purposes. We use these purposes as the foundation for developing and prioritizing the management goals and objectives for each refuge within the NWRS mission, and to determine how the public can use each refuge. The planning process is a way for us and the public to evaluate management goals and objectives that will ensure the best possible approach to wildlife, plant, and habitat conservation, while providing for wildlife-dependent recreation opportunities that are compatible with each refuge's establishing purposes and the mission of the NWRS.

Additional Information

For each refuge, the final CCP includes detailed information about the refuge unit itself, the planning process, issues, and the management alternative selected. The Web site also includes the EAs and FONSIs, prepared in accordance with the National Environmental Policy Act (NEPA) (43 U.S.C. 4321 et seq.). Each EA/FONSI includes a discussion of alternatives for refuge management options. The Service's selected alternatives are reflected in the final CCP for each refuge.

Selected Alternatives for Each Refuge

The selected alternative in each of the CCPs best meets the vision for the future for that refuge; the purposes for which the refuge was established; and the habitat, wildlife, and visitor services goals identified in the CCP. The selected alternative is the basis for the CCP. Future management actions will have a neutral or positive impact on the local economy, and the recommendations in the CCP will ensure that refuge management is consistent with the mission of the National Wildlife Refuge System and U.S. Fish and Wildlife Service. A detailed description of objectives and actions included in this selected alternative is found in chapter 4 of each final CCP.

Buffalo Lake NWR

Under the selected alternative, an expansion of habitat management and restoration activities, combined with expanded public use and infrastructure, will promote short-grass prairies. This alternative is based on increased efforts of wildlife inventories and habitat condition, in an attempt to benefit wildlife by using adaptive management strategies that promote short grass prairies throughout the entire ecoregion. The Service will continue to develop additional visitor service programs, by expanding the environmental education and interpretation programs, as well as by using outreach efforts to meet increasing visitation and interest in Refuge resources.

Ozark Plateau NWR

Under the selected alternative, habitat objectives will be accomplished through a combination of management activities to encourage ecological integrity of caves, springs, streams, wetlands, watersheds, forests, and groundwater recharge areas; improve or maintain habitats for native and migratory wildlife; and provide for environmental education and recreational opportunities. This alternative is based on successful pre-existing management strategies and has incorporated ecological principles that apply to Bailey's Central Interior Broadleaf Forest ecoregion province and the Ozark Highlands ecoregion section. The Service would continue to work with conservation partners and increase collaboration and partnerships at a landscape level on public and private lands, working toward maintaining the integrity of this isolated and threatened ecosystem.

Texas Mid-Coast NWRC

Under the selected alternative, habitat objectives will be accomplished through a combination of management activities to encourage ecological integrity, improve or maintain habitats for native and migratory wildlife, and provide for recreational opportunities. In accordance with the 2013 Land Protection Plan (Appendix I in CCP), the Service would acquire and conserve lands of up to 70,000 acres within the Columbia Bottomland Ecosystem. Conserved lands may include bottomland forest, riparian, open water, and coastal prairie habitats within the original Austin's Woods Conservation Project Area Boundary. The Service will continue to work with conservation partners, working toward maintaining the integrity of this isolated and threatened ecosystem.

Wichita Mountains WR

Under the selected alternative, habitat objectives will be accomplished through a combination of management activities to encourage ecological integrity, control invasive species, and improve or maintain habitats. Through a revised Habitat Management Plan, the refuge would evaluate increasing the bison herd to a genetically effective population size. The refuge also would continue to implement the Department of the Interior Bison Initiative model. The refuge would evaluate decreasing or moving the longhorn herd to an alternate location for the purpose of increasing the bison herd. The refuge would redesignate the Special Use Area as a Research Natural Area to formalize this area's management and better protect it in perpetuity. The refuge would improve opportunities for the six priority wildlife-dependent public uses through increases in facilities improvement, information, signage, and facilitation by refuge staff. Both the Treasure Lake Job Corps and Holy City would continue to be managed on the refuge. The refuge would consider partnership opportunities with Job Corps for Refuge projects. Holy City's use would be monitored to determine if effects to refuge resources are occurring and whether management needs to be adapted.

Benjamin Tuggle,
Regional Director, Southwest Region, U.S. Fish and Wildlife Service.

[FR Doc. 2014-01471 Filed 1-24-14; 8:45 am]

BILLING CODE 4310-55-P